POSTAL REGULATORY COMMISSION

[Docket No. RM2015-1; Order No. 2206]

Semi-Permanent Exception From Periodic Reporting of Service Performance Measurement

AGENCY: Postal Regulatory Commission.

ACTION: Notice.

SUMMARY: The Commission is noticing a recent Postal Service filing concerning a semi-permanent exception from periodic reporting of service performance measurement for Alaska Bypass Service. This notice informs the public of the filing, invites public comment, and takes other administrative steps.

DATES: Comments are due: October 31, 2014. Reply Comments are due: November 14, 2014.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On October 1, 2014, the Postal Service filed a request for a semi-permanent exception from periodic reporting of service performance measurement for Alaska Bypass Service pursuant to 39 CFR 3055.3.¹

¹ United States Postal Service Request for Semi-Permanent Exception from Periodic Reporting of Service Performance Measurement for Alaska Bypass Service, October 1, 2014 (Request).

Section 3055.3 provides that the Postal Service may request that a product, or a component of a product, be excluded from service performance measurement reporting upon demonstrating that:

1. The cost of implementing a measurement system would be prohibitive in relation to the revenue generated by the product, or component of a product;

2. The product, or component of a product, defies meaningful measurement; or

3. The product, or component of a product, is in the form of a negotiated service agreement with substantially all components of the agreement included in the measurement of other products.

The Postal Service contends that the cost of implementing a measurement system would be prohibitive in relation to the revenue generated by Alaska Bypass Service and thus falls within the 39 CFR 3055.3(a)(1) exclusion. Request at 9-11.

II. Notice of Commission Action

The Commission establishes Docket No. RM2015-1 for consideration of matters related to the proposed semi-permanent exception from periodic reporting of service performance measurement of Alaska Bypass Service.

Interested persons may submit comments on whether the Postal Service's Request is consistent with the policies of 39 U.S.C. 3652(a)(2) and 39 CFR 3055.3. Comments are due no later than October 31, 2014. Reply comments are due no later than November 14, 2014. The public portions of these filings can be accessed via the Commission's Web site (http://www.prc.gov).

The Commission appoints Lyudmila Y. Bzhilyanskaya to serve as a Public Representative in the captioned proceedings.

III. Ordering Paragraphs

It is ordered:

1. The Commission established Docket No. RM2015-1 for consideration of matters raised by the Postal Service's Request.

2. Pursuant to 39 U.S.C. 505, the Commission appoints Lyudmila Y. Bzhilyanskaya to serve as an officer of the Commission (Public Representative) to represent the interests of the general public in these proceedings.

3. Comments by interested persons in these proceedings are due no later than October 31, 2014.

4. Reply comments are due no later than November 14, 2014.

5. The Secretary shall arrange for publication of this order in the Federal Register.

By the Commission.
Ruth Ann Abrams,
Acting Secretary.

[FR Doc. 2014-24189 Filed 10-9-14; 8:45 am]

BILLING CODE 7710-FW-P